DEPARTMENT OF THE INTERIOR

National Park Service

Fort Dupont Park, National Capital Parks—East, Washington, DC; Notice of Availability of a Finding of No Significant Impact for the Proposed Transfer of Jurisdiction of a Portion of Fort Dupont Park, Washington, DC

AGENCY: National Park Service, Department of the Interior.

ACTION: Notice of availability of a Finding of No Significant Impact.

SUMMARY: Pursuant to the National Environmental Policy Act (NEPA) and National Park Service (NPS) NEPA guidelines, NPS prepared and in October 2008 made available for a 30-day public review an Environmental Assessment (EA) evaluating the potential impacts of a proposed transfer of jurisdiction of a portion of Fort Dupont Park to the Government of the District of Columbia (the District). This transfer would be for recreational purposes and in assessing this proposed transfer, the EA also considered the District's general plan to expand and improve sports-related recreational facilities to the extent that these details are presently known.

After the end of the 30-day public review period, the NPS selected for implementation, the preferred alternative as described in the EA, and determined it will not have a significant impact on the quality of the human environment and that an Environmental Impact Statement is not required. In making that selection and determination, the NPS considered the information and analysis contained in the EA and the comments received during the public review period. The NPS has accordingly prepared a Finding of No Significant Impact (FONSI) for the proposed transfer. The FONSI is also accompanied by an errata sheet that corrected some minor inaccuracies and updated some information.

The errata did not result in any changes in the overall findings of the EA and had no bearing on its determination of no significant impact.

FOR FURTHER INFORMATION CONTACT: Gayle Hazelwood, Superintendent, National Capital Parks—East, RE: Fort Dupont Park Land Transfer Proposal, at 1900 Anacostia Drive, SE., Washington, DC 20020, by telephone at (202) 690-5127, or by e-mail at gayle_hazelwood@nps.gov.

SUPPLEMENTARY INFORMATION: The selected alternative would transfer jurisdiction of an approximate 15-acre parcel at one end of Fort Dupont Park (the Project Area) to the District to facilitate the improvement and expansion of recreational facilities located there. The transfer would result in the District taking over management of the Project Area and then improving and expanding the sports-related recreational facilities including the development of a Youth Baseball Academy and the expansion of the Fort Dupont Ice Arena. Pursuant to the transfer, all NPS managerial responsibilities for the Project Area, including the Fort Dupont Ice Arena which the NPS leases to the Friends of Fort Dupont Ice Arena, Inc., will be transferred to the District, and the Project Area will no longer be a part of Fort Dupont Park. The transfer will also necessitate amending the NPS' 2004 Fort Circle Parks Management Plan which provides a managerial framework for decisions about use and development within the Fort Circle Parks, including Fort Dupont Park.

Although the NPS proposes making this transfer, for it to occur not only must the NPS and District agree to the terms, the National Capital Planning Commission must recommend it.

The FONSI and other documents related to this action are available for review electronically on the NPS's Planning, Environment, and Public Comment (PEPC) Web site at http://parkplanning.nps.gov/NACE. You may also request a hard copy at (202) 690-5127.

Dated: January 14, 2009.
Margaret O'Dell,
Regional Director, National Capital Region.

[FR Doc. E9-6212 Filed 3-23-09; 8:45 am]

BILLING CODE 4312-51-P